DEPARTMENT OF COMMERCE

National Oceanic and Atmospheric Administration

Notice; Preparation of a Papahanaumokuakea Marine National Monument Natural Resources Science Plan

AGENCY: National Oceanic and Atmospheric Administration (NOAA), Department of Commerce (DOC).

SUMMARY: This notice advises the public that the Co-Trustees of the Papahanaumokuakea Marine National Monument (Monument) in the Northwestern Hawaiian Islands (NWHI) and surrounding marine areas intend to prepare a Natural Resources Science Plan (Science Plan) and associated environmental assessment (EA) for the Monument. The Science Plan is being developed concurrently with the comprehensive Monument Management Plan (MMP) [Notice of Intent to Prepare Monument Management Plan and EA, Federal Register April 4, 2007 (Volume 72, Number 64)]. The Science Plan will identify management needs, highlight priority thematic areas designed to meet these needs, and describe the current and proposed research projects housed under these themes. The Co-Trustees are seeking public input on the development of the plan. There will be a public scoping meeting to solicit comments on November 15, 2007.

DATES: The public meeting will be held on Thursday, November 15, 2007, 6 p.m.-8 p.m. at the Japanese Cultural Center of Hawaii, in Honolulu, HI. Written comments will be accepted through November 30, 2007.

ADDRESSES: The public meeting will be held at the Japanese Cultural Center located at 2454 South Beretania Street, Honolulu, Hawaii 96826. Meeting materials will be posted on the Monument Web site (http://www.hawaiireef.noaa.gov) from November 15-November 30, 2007. Written comments may be provided in person at the public meeting, via fax at 808-397-2662, or E-mail via E-mail at NWHIComments@noaa.gov.

SUPPLEMENTARY INFORMATION: Prior to the creation of the Northwestern Hawaiian Islands Marine National Monument by President George W. Bush on June 15, 2006, NOAA was engaged in management planning and environmental impact assessment development to support the public process for the NWHI to be designated as a National Marine Sanctuary through the public sanctuary designation process. As part of that planning process a 3-day workshop was held in May 2003 to discuss critical scientific information needs related to long term conservation and management of the NWHI. Over 100 research scientists and resource managers attended the workshop representing agencies, universities, and organizations nationwide. The workshop resulted in the identification of five priority research areas to support management in the NWHI. These are described in detail in a document called the final Information Needs for Conservation and Management of the Northwestern Hawaiian Islands Report, which is available at http://hawaiireef.noaa.gov/research/2002Workshop/NWHI_Summary.pdf.

On June 15, 2006, President Bush signed Presidential Proclamation 8031 (Proclamation) establishing the Northwestern Hawaiian Islands Marine National Monument, subsequently renamed the Papahanaumokuakea Marine National Monument. The Monument is administered by the U.S. Department of Commerce through NOAA, U.S. Department of the Interior through the Fish and Wildlife Service (FWS), and the State of Hawaii through the Department of Land and Natural Resources (DLNR) (collectively, the Co-Trustees). The Proclamation provides the authority for the Co-Trustees to issue research permits for activities designed to further understanding of Monument resources and qualities, and to assist in conservation and management of the Monument.

The Science Plan will be used to guide these research activities. It will be based on the results from the information needs workshop, a multi-agency archipelagic research plan (under development), agency expertise and identified management needs, and public input. It will contain five themes relevant to natural resources research: (1) Ecological Processes and Connectivity, (2) Biodiversity and Habitats, (3) Human Impacts, (4) Indicators and Monitoring of Ecosystem Change, and (5) Modeling and Forecasting Ecosystem Change.

The Co-Trustees are seeking public input on the development of the draft Science Plan. Input is requested on the themes proposed in the draft plan, as well as the type of research to be conducted under each theme.

A public scoping meeting will be held in Honolulu to solicit comments. A presentation will highlight the Science Plan development process, including sources of information utilized to date. Following the presentation, the public will be invited to provide written or oral comment on the five thematic research areas and projects that should be conducted under each thematic area. Written comments will also be accepted at the dates and locations specified in the DATES and ADDRESSES sections above.

Dated: October 24, 2007.
Daniel J. Basta,
Director, Office of National Marine Sanctuaries, National Oceanic and Atmospheric Administration.

[FR Doc. 07-5502 Filed 11-5-07; 8:45 am]

BILLING CODE 3510-NK-M